DEPARTMENT OF DEFENSE

Department of the Navy

[Docket ID: USN-2024-HQ-0015]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by September 15, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: USMC Child and Youth Program; NAVMC 1750-4, 1750-5, 1750-7, 1750-10, 1750-11, 1750-15 and 11720; OMB Control Number 0712-0006.

Type of Request: Revision.

Number of Respondents: 112,000.

Responses per Respondent: 3.21.

Annual Responses: 359,500.

Average Burden per Response: 22.46 minutes.

Annual Burden Hours: 134,583.

Needs and Uses: The mission of the United States Marine Corps Child and Youth Program (USMC CYP) is to provide high-quality, affordable childcare programs and services to support the overall operational readiness and retention of eligible Marine Corps military families. The USMC CYP information collections are necessary to enroll and register eligible CYP participants, identify if any participant accommodations are required, obtain authorization for CYP personnel to administer approved medications or non-medicated topical products that the participants require, and process the withdrawal or transfer of CYP participants.

Affected Public: Individuals or households (Military Families).

Frequency: As needed.

Respondent's Obligation: Voluntary.

DoD Clearance Officer: Mr. Reginald Lucas.

Dated: August 12, 2025.
Stephanie J. Bost,
Alternate OSD Federal Register Liaison Officer, Department of Defense.

[FR Doc. 2025-15530 Filed 8-14-25; 8:45 am]

BILLING CODE 6001-FR-P